SECURITIES AND EXCHANGE COMMISSION

[OMB Control No. 3235-0109]

Agency Information Collection Activities; Submission for OMB Review; Comment Request; Extension: Rule 12d1-3

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (“Commission” or “SEC”) has submitted to the Office of Management and Budget (“OMB”) this request for extension of the previously approved collection of information discussed below.

Rule 12d1-3 (17 CFR 240.12d1-3) of the Securities Exchange Act of 1934 (“Exchange Act”) requires a certification that a security has been approved by an exchange for listing and registration pursuant to Section 12(d) of the Exchange Act (15 U.S.C. 78l(d)) to be filed with the Commission. The information required under Rule 12d1-3 is mandatory and is publicly available on the Commission's Electronic Data Gathering, Analysis, and Retrieval (“EDGAR”) system.

We estimate that Rule 12d1-3 takes approximately 0.5 hours per response to provide the information required under Rule12d1-3 and is filed by an average of 709 respondents annually with an average of 1,066 responses per year (calculated for the period 2022 through 2024). This is an average of 1.5 responses per respondent per year. We further estimate that 100% of the collection of information is carried internally by the respondent. Thus, we estimate the total annual reporting burden to be 533 hours (0.5 hours per response × 1,066 responses). We estimate that there is no cost associated with this information collection because 100% of the burden is carried internally by the respondent.

An agency may not conduct or sponsor, and a person is not required to respond to, a collection of information unless it displays a currently valid OMB Control Number.

The public may view and comment on this information collection request at: https://www.reginfo.gov/public/do/PRAViewICR?ref_nbr=202507-3235-008 or send an email comment to MBX.OMB.OIRA.SEC_desk_officer@omb.eop.gov within 30 days of the day after publication of this notice by October 27, 2025.

Dated: September 23, 2025.
Sherry R. Haywood,
Assistant Secretary.

[FR Doc. 2025-18646 Filed 9-24-25; 8:45 am]

BILLING CODE 8011-01-P